ENVIRONMENTAL PROTECTION AGENCY

[FRL-9963-96-Region 5]

Notification of a Public Teleconference of the Great Lakes Advisory Board

AGENCY: Environmental Protection Agency (EPA).

ACTION: Notice.

SUMMARY: The Environmental Protection Agency (EPA) announces a public teleconference of the Great Lakes Advisory Board (the Board) to discuss the Board's specific recommendations in response to charge questions from the federal Interagency Task Force on the development of the Great Lakes Restoration Initiative Action Plan 3.

DATES: The teleconference will be held on Monday, July 17, 2017 from 2 p.m. to 4 p.m. Central Time, 3 p.m. to 5 p.m. Eastern Time. An opportunity will be provided to the public to comment.

ADDRESSES: The public teleconference will be conducted by telephone only. The teleconference number is 866-299-3188 and the teleconference code is 120 3348.

FOR FURTHER INFORMATION CONTACT: Any member of the public wishing further information regarding this teleconference may contact Rita Cestaric, Designated Federal Officer (DFO), by email at Cestaric.Rita@epa.gov. General information about the Board can be found at http://glri.us/advisory/index.html.

SUPPLEMENTARY INFORMATION:

Background: The Board is a federal advisory committee chartered under the Federal Advisory Committee Act (FACA), Public Law 92-463. EPA established the Board in 2013 to provide independent advice to the EPA Administrator in his capacity as Chair of the federal Great Lakes Interagency Task Force (IATF). The Board complies with the provisions of FACA.

The Board held a public meeting on May 30, 2017 to discuss its draft responses to charge questions on the development of GLRI Action Plan 3. The Board expects to finalize its recommendations at the July 17, 2017 teleconference. Additional information, including the charge questions and draft responses, can be found at https://www.glri.us/public.html.

Availability of Teleconference Materials: The agenda and other materials in support of the teleconference will be available before the teleconference at https://www.glri.us/public.html.

Procedures for Providing Public Input: Federal advisory committees provide independent advice to federal agencies. Members of the public can submit relevant comments for consideration by the Board. Input from the public to the committees will have the most impact if it provides specific information for consideration. Members of the public wishing to provide comments should contact the DFO directly.

Oral Statements: In general, individuals or groups requesting an oral presentation at this public teleconference will be limited to three minutes per speaker, subject to the number of people wanting to comment. Interested parties should contact the DFO in writing (preferably via email) at the contact information noted above by July 14, 2017 to be placed on the list of public speakers for the teleconference.

Written Statements: Written statements must be received by July 14, 2017 so that the information may be made available to the committees for consideration. Written statements should be supplied to the DFO in the following formats: One hard copy with original signature and one electronic copy via email. Commenters are requested to provide two versions of each document submitted: One each with and without signatures because only documents without signatures may be published on the GLRI Web page.

Accessibility: For information on access or services for individuals with disabilities, please contact the DFO at the email address noted above, preferably at least seven days prior to the teleconference, to give EPA as much time as possible to process your request.

Dated: June 12, 2017.
Tinka G. Hyde,
Director, Great Lakes National Program Office.

[FR Doc. 2017-13660 Filed 6-28-17; 8:45 am]

BILLING CODE 6560-50-P